ENVIRONMENTAL PROTECTION AGENCY

[ER-FRL-6642-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 4, 2003 (68 FR 16511).

Draft EISs

ERP No. D-AFS-K65249-CA Rating EC2, Stream Fire Restoration Project, Implementation, Plumas National Forest, Mt. Hough Ranger District, Plumas County, CA.

Summary: EPA expressed environmental concern that the output guidelines developed for Alternative C may be inconsistent with the overall management strategy embodied in the Sierra Nevada Forest Plan Amendment. EPA also expressed concern that the Forest Service has not identified road decommissioning opportunities as part of Alternatives B and C.

ERP No. D-AFS-L65423-ID Rating NS, Big Bend Ridge Vegetation Management Project and Timber Sale, Provision of Forest Products on a Sustained Yield Basis, Caribou-Targhee National Forest, Ashton/Island Park Ranger District, Fremont County, ID.

Summary: EPA Region 10 used a screening tool to conduct a limited review of this action. Based upon this screen, EPA does not foresee having any environmental objections to the proposed action. Therefore, EPA will not be conducting a detailed review.

ERP No. D-FHW-G40173-TX Rating EC2, Grand Parkway/TX-99 Improvement Project, I-10 to US 290, Funding, Right-of-Way Grant and U.S. Army COE Section 404 Permit Issuance, Harris County, TX.

Summary: EPA has environmental concerns with the DEIS and proposed action, specifically relating to air quality impacts and conformity issues. EPA is also concerned with jurisdictional wetland delineations and mitigation, particularly the applicants interpretation of Galveston District Corps of Engineers policy as well as recent SWANC decisions.

Final EISs

ERP No. F-AFS-J65338-UT Uinta National Forest Revised Land and Resource Management Plan, Implementation, Juab, Sanpete, Tooele, Utah and Wasatch Counties, UT.

Summary: No formal comment letter was sent to the preparing agency.

ERP No. F-AFS-L39057-OR Rimrock Ecosystem Restoration Project, Promotion of Healthy and Sustainable Watershed Conditions, Implementation, Umatilla National Forest, Heppner Ranger District, Grant, Morrow and Wheeler Counties, OR.

Summary: No formal comment letter was sent to the preparing agency.

ERP No. F-DOE-L09815-00 Fish and Wildlife Implementation Plan, Policy Directions for Fish and Wildlife Mitigation and Recovery, Implementation and Funding, Pacific Northwest, AZ, CA, ID, MT, NV, NM, OR, UT, WY and British Columbia.

Summary: No formal comment letter was sent to the preparing agency.

ERP No. F-NRC-E05099-FL Generic EIS—License Renewal of Nuclear Plants for the St. Lucie Units 1 and 2, Supplement 11, NUREG-1437, Implementation, Hutchinson Island, St. Lucie County, FL.

Summary: EPA has environmental concerns about some aspects of the project, but notes that the EIS indicates that the plant will continue radiological monitoring of effluents and the appropriate storage and disposition of radioactive waste during the license renewal period.

ERP No. F-USN-K52004-CA Advanced Amphibious Assault Vehicle (AAAV) Development, Replacement and Establishment, Implementation, Del Mar Basin Area of Marine Corps Base (MCB) Camp Pendelton, San Diego County, CA

Summary: No formal comment letter was sent to the preparing agency.

Dated: July 15, 2003.
Joseph C. Montgomery,
Director, NEPA Compliance Division, Office of Federal Activities.

[FR Doc. 03-18290 Filed 7-17-03; 8:45 am]

BILLING CODE 6560-50-M